DEPARTMENT OF TRANSPORTATION

Surface Transportation Board

[Docket No. FD 35860]

Wisconsin Great Northern Railroad, Inc.—Lease and Operation Exemption—Rail Line of Wisconsin Central, Ltd.

Wisconsin Great Northern Railroad, Inc. (WGNR), a Class III rail carrier, has filed a verified notice of exemption under 49 CFR 1150.41 to lease from Wisconsin Central, Ltd. (WC),¹ and to operate, pursuant to a lease agreement, an approximately 6.3-mile line of railroad between milepost 95.2 near Hayward Junction and milepost 101.5 at Hayward, in Washburn and Sawyer Counties, Wis.

¹ WC is an affiliate of Canadian National Railway Company.

According to WGNR, the lease does not contain any provision or agreement that may limit future interchange of traffic with a third-party connecting carrier. WGNR states that the line connects with WC's north-south main line at milepost 96.0 at Hayward Junction, Wis.

The proposed transaction may be consummated on or after October 25, 2014, the effective date of this exemption (30 days after the exemption was filed).

WGNR certifies that the projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed by October 17, 2014 (at least seven days prior to the date the exemption becomes effective).

An original and 10 copies of all pleadings, referring to Docket No. FD 35860, must be filed with the Surface Transportation Board, 395 E Street SW., Washington, DC 20423-0001. In addition, a copy of each pleading must be served on applicant's representative, Thomas F. McFarland, Thomas F. McFarland, P.C., 208 South LaSalle Street, Suite 1890, Chicago, IL 60604-1112.

Board decisions and notices are available on our Web site at “WWW.STB.DOT.GOV.”

Decided: October 7, 2014.
By the Board, Rachel D. Campbell, Director, Office of Proceedings.
Brendetta S. Jones,
Clearance Clerk.

[FR Doc. 2014-24251 Filed 10-9-14; 8:45 am]

BILLING CODE 4915-01-P